SMALL BUSINESS ADMINISTRATION

Region 5 Wisconsin District Advisory Council; Public Meeting

The Small Business Administrations Region 5 Wisconsin District Advisory Council, located in the geographical area of Milwaukee, Wisconsin, will hold a public meeting at 12:00 noon on Wednesday, July 17, 2002, at the Metro Milwaukee Area Chamber Building 756 North Milwaukee Street, 4th Floor, Milwaukee, WI 53202, to discuss such matters as may be presented by members, staff of the Small Business Administration, or others present.

Anyone wishing to make an oral presentation to the Board must contact Yolonda Staples Lassiter, EDA, in writing by letter or by fax no later than July 11, 2002, in order to be put on the agenda. For further information, write or call Yolanda Staples Lassiter, EDA U.S. Small Business Administration 310 West Wisconsin Ave., Suite 400 Milwaukee, Wisconsin 53203 (414) 297-1090.

Steve Tupper,
Committee Management Officer.

[FR Doc. 02-17100 Filed 7-5-02; 8:45 am]

BILLING CODE 8025-01-P